INTERNATIONAL TRADE COMMISSION

[Investigation Nos. 701-TA-525 and 731-TA-1260-1261 (Final)]

Certain Welded Line Pipe From Korea and Turkey

Determinations

On the basis of the record ¹ developed in the subject investigations, the United States International Trade Commission (“Commission”) determines, pursuant to the Tariff Act of 1930 (“the Act”), that an industry in the United States is materially injured by reason of imports of certain welded line pipe from Korea and Turkey, provided for in subheadings 7305.11, 7305.12, 7305.19, and 7306.19, that have been found by the Department of Commerce (“Commerce”) to be sold in the United States at less than fair value (“LTFV”), and that have been found by Commerce to be subsidized by the government of Turkey.

¹ The record is defined in sec. 207.2(f) of the Commission's Rules of Practice and Procedure (19 CFR 207.2(f)).

Background

The Commission, pursuant to sections 705(b) and 735(b) of the Tariff Act of 1930 (19 U.S.C. 1671d(b) and 19 U.S.C. 1673d(b)), instituted these investigations effective October 16, 2014, following receipt of a petition filed with the Commission and Commerce by American Cast Iron Pipe Company, Birmingham, Alabama; EnergeX, a division of JMC Steel Group, Chicago, Illinois; Maverick Tube Corporation, Houston, Texas; Northwest Pipe Company, Vancouver, Washington; Stupp Corporation, Baton Rouge, Louisiana; Tex-Tube Company, Houston, Texas; TMK IPSCO, Houston, Texas; and Welspun Tubular LLC USA, Little Rock, Arkansas. The final phase of the investigations was scheduled by the Commission following notification of preliminary determinations by Commerce that imports of certain welded line pipe from Korea and Turkey were dumped within the meaning of 733(b) of the Act (19 U.S.C. 1673b(b)) and preliminary determination by Commerce that imports of certain welded line pipe from Turkey were subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register on June 12, 2015 (80 FR 33554). The hearing was held in Washington, DC, on October 6, 2015, and all persons who requested the opportunity were permitted to appear in person or by counsel.

The Commission made these determinations pursuant to sections 705(b) and 735(b) of the Tariff Act of 1930 (19 U.S.C. 1671d(b) and 19 U.S.C. 1673d(b)). It completed and filed its determinations in these investigations on November 20, 2015. The views of the Commission are contained in USITC Publication 4580 (November 2015), entitled Certain Welded Line Pipe from Korea and Turkey: Investigation Nos. 701-TA-525 and 731-TA-1260-1261 (Final).

By order of the Commission.
Issued: November 20, 2015.
Lisa R. Barton,
Secretary to the Commission.

[FR Doc. 2015-30113 Filed 11-25-15; 8:45 am]

BILLING CODE 7020-02-P